DEPARTMENT OF TRANSPORTATION

National Highway Traffic Safety Administration

Denial of Motor Vehicle Defect Petition, DP01-002

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety. The petition is hereinafter identified as DP01-002.

FOR FURTHER INFORMATION CONTACT: Jonathan White, Office of Defects Investigation (ODI), NHTSA, 400 Seventh Street, SW., Washington, DC 20590. Telephone: (202) 366-5226.

SUPPLEMENTARY INFORMATION: Mr. James T. Kuwada submitted a petition to NHTSA by letter dated February 2, 2001, requesting that an investigation be initiated to determine whether to issue an order concerning a defect in Model Year (MY) 1995 Honda Accord vehicles. The petitioner alleges that the “seal” of the anti-lock brake system (ABS) modulator leaks brake fluid.

ABS modulator brake fluid leakage is described in Technical Service Bulletin (TSB) No. 96-050 issued by American Honda Motor Co., Inc. (Honda) on November 4, 1996. TSB No. 96-050 concerns the ABS modulator in MY 1994 through 1996 Honda Accord vehicles produced in Ohio (VIN begins with 1HG). The threaded plugs in the ABS modulator assembly were not properly tightened, resulting in a brake fluid leak.

A review of ODI's database revealed that there were eight, fourteen, and six consumer complaints for MY 1994, MY 1995, and MY 1996 Honda Accord vehicles (subject vehicles), respectively, alleging ABS modulator failure. Of these 28 ABS modulator failure complaints, 21 indicated that the ABS modulator leaked or that it had to be resealed; 17 indicated that the ABS warning light came on; 15 complained about the high cost of repair, and three indicated brake performance degradation. No crash or injury was reported in any of the 28 complaints. Moreover, these 28 complaints represent an extremely low proportion of the 898,650 subject vehicles that were produced.

On April 25, 2001, ODI contacted the three complainants (ODI No. 847863, ODI No. 737821, and ODI No. 875406) who alleged brake performance degradation to clarify the extent of that degradation and to ascertain whether it was the result of failure of the ABS modulator on their vehicles. ODI learned that the main concern of these complainants was the loss of anti-lock brake function on their vehicles. All three complainants indicated that their standard brakes functioned normally, even after the ABS warning light had come on. All were able to drive their vehicles to a repair shop where they were told that the ABS modulator on their vehicles had leaked brake fluid.

The brake fluid leakage from the ABS modulator is apparently very slow and will signal a warning to the driver. The complainant for ODI complaint No. 847863 said that the loss of brake fluid was very slow. The complainant for ODI complaint No. 875406 said that he did not observe any loss of brake fluid on the ground and is still driving the vehicle even with the ABS warning light on (he was quoted a price of $1,600 for the ABS module repair and had decided not to have the work done). Also, a fourth complainant (ODI No. 737986) indicated that the “ABS modulator [is] leaking because of loose fittings or cracks, ABS brake fluid must be topped off every few months.”

Even given a modulator leak, there is little risk to motor vehicle safety since the underlying or foundation brake system will continue to function normally (without the anti-lock function). Considering that the subject vehicles have been on the road for five to seven years and there have not been any reports of crashes in the ODI database, this problem, though costly to remedy, does not appear to present a safety-related defect.

In November 1994, ODI opened an investigation (PE94-067) on MY 1990 Mazda 929 vehicles for brake fluid leakage from the ABS hydraulic control unit. That investigation was closed without a recall due to the absence of a safety-related defect trend.

In view of the foregoing, it is unlikely that NHTSA would issue an order for the notification and remedy of the alleged safety-related defect as defined by the petitioner in the subject vehicles at the conclusion of the investigation requested in the petition. Therefore, in view of the need to allocate and prioritize NHTSA's limited resources to best accomplish the agency's safety mission, the petition is denied.

Authority: 49 U.S.C. 30162(d); delegations of authority at CFR 1.50 and 501.8.

Kenneth N. Weinstein,
Associate Administrator for Safety Assurance.

[FR Doc. 01-19547 Filed 8-3-01; 8:45 am]

BILLING CODE 4910-59-P